DEPARTMENT OF HEALTH AND HUMAN SERVICES

Office of the National Coordinator; American Health Information Community Meeting

ACTION: Announcement of meeting.

SUMMARY: This notice announces the first meeting of the American Health Information Community in accordance with the Federal Advisory Committee Act (Pub. L. 92-463, 5 U.S.C., App.) The American Health Information Community will advise the Secretary and recommend specific actions to achieve a common interoperability framework for health information technology (IT).

DATES: October 7th, 2005 from 8:30 a.m. to 5 p.m.

ADDRESSES: Hubert H. Humphrey building (200 Independence Ave., Southwest, Washington, DC 20201), conference room 705A.

FOR FURTHER INFORMATION CONTACT: http://www.hhs.gov/healthit.

SUPPLEMENTARY INFORMATION: In accordance with GSA regulations implementing the Federal Advisory Committee Act, ONC intends to publish a Federal Register meeting announcement at least 15 calendar days before the date of an American Health Information Community meeting for all dates in the future. The GSA regulations, however, also provide that an agency may give less than 15 days notice if the reasons for doing so are included in the Federal Register meeting notice. Due to the recent events in the gulf coast and the Department of Health and Human Services and Office of the National Coordinator's response to hurricane Katrina it has not been possible for ONC to announce the date and location of the first AHIC meeting before today. It should also be noted that the following meeting may be postponed if DHHS and ONC are involved in a response to hurricane Rita.

The URL for the webcast of the first AHIC meeting has not yet been established and will be announced on the ONC Web site http://www.hhs.gov/healthit before the scheduled date above.

Dated: September 23, 2005.
Dana Haza,
Acting Director of the Office of Programs and Coordination, Office of the National Coordinator.

[FR Doc. 05-19452 Filed 9-28-05; 8:45 am]

BILLING CODE 4150-24-P